Title 3—

The President

Proclamation 7576 of July 3, 2002

To Provide for the Efficient and Fair Administration of Safeguard Measures on Imports of Certain Steel Products

By the President of the United States of America

A Proclamation

1. On March 5, 2002, pursuant to section 203 of the Trade Act of 1974, as amended (the “Trade Act”) (19 U.S.C. 2253), I issued Proclamation 7529, which imposed tariffs and a tariff-rate quota on certain steel products under subheadings 9903.72.30 through 9903.74.24 of the Harmonized Tariff Schedule of the United States (HTS) (the “safeguard measures”) for a period of 3 years plus 1 day.

2. In clause (3) of Proclamation 7529, I excluded imports of certain steel that are the product of World Trade Organization (WTO) member developing countries, as provided in subdivision (d)(i) of U.S. Note 11 to subchapter III of chapter 99 of the HTS (Note 11), from the safeguard measures.

3. In clause (5) of Proclamation 7529, I authorized the United States Trade Representative (USTR), within 120 days after March 5, 2002, to further consider any request for exclusion of a particular product submitted in accordance with the procedures set out in 66 Fed. Reg. 54321, 54322-54323 (October 26, 2001) and, upon publication in the Federal Register of a notice of his finding that a particular product should be excluded, to modify the HTS provisions created by the Annex to Proclamation 7529 to exclude such particular product from the pertinent safeguard measure.

4. Pursuant to section 203(g) of the Trade Act (19 U.S.C. 2253(g)), in order to provide for the efficient and fair administration of the safeguard measures, I have determined that:

(a) the USTR should have authority, as appropriate, to add WTO member developing countries to the list of countries in subdivision (d)(i) of Note 11;

(b) the period provided in clause (5) of Proclamation 7529 should be extended until August 31, 2002; and

(c) requests for exclusion submitted in accordance with the procedures set out in 67 Fed. Reg. 19307, 19308 (April 18, 2002); 67 Fed. Reg. 35842, 35842-35843 (May 21, 2002); 67 Fed. Reg. 38693, 38694 (June 5, 2002) should be treated as having been submitted in accordance with the procedures set out in 66 Fed. Reg. 54321, 54322-54323 (October 26, 2001).

5. Section 604 of the Trade Act (19 U.S.C. 2483) authorizes the President to embody in the HTS the substance of the relevant provisions of that Act, and of other acts affecting import treatment, and actions thereunder, including the removal, modification, continuation, or imposition of any rate of duty or other import restriction.

NOW, THEREFORE, I, GEORGE W. BUSH, President of the United States of America, acting under the authority vested in me by the Constitution and the laws of the United States, including but not limited to sections 203 and 604 of the Trade Act, and section 301 of title 3, United States Code, do proclaim that:

(1) The USTR is authorized, upon publication of a notice in the Federal Register of his determination that it is appropriate to add WTO member developing countries to the list of countries in subdivision (d)(i) of Note 11, to add such countries to that list.

(2) Clause (5) of Proclamation 7529 is amended by deleting the words “Within 120 days after the date of this proclamation” and adding in their place the words “At any time on or before August 31, 2002”. Note 11 is amended in subdivision (c), by deleting the date “July 3, 2002” and adding in its place the date “August 31, 2002.”

(3) The USTR is authorized to treat requests for exclusion submitted in accordance with the procedures set out in 67 Fed. Reg. 19307 (April 18, 2002); 67 Fed. Reg. 35842 (May 21, 2002); or 67 Fed. Reg. 38693 (June 5, 2002) as having been submitted in accordance with the procedures set out in 66 Fed. Reg. 54321, 54322-54323 (October 26, 2001).

(4) Any provisions of previous proclamations and Executive Orders that are inconsistent with the actions taken in this proclamation are superseded to the extent of such inconsistency.

(5) The modifications to the HTS made by this proclamation shall be effective with respect to goods entered, or withdrawn from warehouse for consumption, on or after 12:01 a.m. EST, on March 20, 2002, and shall continue in effect as provided in subchapter III of chapter 99 of the HTS, unless such actions are earlier expressly reduced, modified, or terminated. Effective at the close of March 21, 2006, or such other date that is 1 year from the close of the safeguard measures, the modifications to the HTS established in this proclamation shall be deleted from the HTS.

IN WITNESS WHEREOF, I have hereunto set my hand this third day of July, in the year of our Lord two thousand two, and of the Independence of the United States of America the two hundred and twenty-sixth.

B

[FR Doc. 02-17272

Filed 7-5-02; 10:21 am]

Billing code 3195-01-P